DEPARTMENT OF VETERANS AFFAIRS

[OMB Control No. 2900-New (10-21034j)]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to this notice. This notice solicits comments for information needed to develop an actuarial projection of veterans' enrolled in VA's health care system.

DATES: Written comments and recommendations on the proposed collection of information should be received on or before August 21, 2006.

ADDRESSES: Submit written comments on the collection of information to Ann Bickoff, Veterans Health Administration (193E1), Department of Veterans Affairs, 810 Vermont Avenue, NW., Washington, DC 20420 or e-mail: ann.bickoff@hq.med.va.gov. Please refer to “OMB Control No. 2900-New (10-21034j)” in any correspondence.

FOR FURTHER INFORMATION CONTACT: Ann W. Bickoff at (202) 273-8310 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Health Insurance and Key Driver Modules for the Survey of Veteran Enrollees' Health and Reliance Upon VA, VA Forms 10-21034j, 10-21034k.

OMB Control Number: 2900-New (10-21034j).

Type of Review: New collection.

Abstract: VA will use the data collected on VA Forms 10-21034j and 10-21034k to accurately project the number of veterans' enrolled in and/or utilizing VA's health care system and as the basis for policy and budgetary analyses.

Affected Public: Federal Government.

Estimated Annual Burden:

VA Form 10-21034j—2,800 hours.

VA Form 10-21034k—67 hours.

Estimated Average Burden Per Respondent:

VA Form 10-21034j—4 minutes.

VA Form 10-21034k—2 minutes.

Frequency of Response: Annually.

Estimated Number of Respondents:

VA Form 10-21034j—42,000.

VA Form 10-21034k—2,000.

Dated: June 12, 2006.
By direction of the Secretary.
Denise McLamb,
Program Analyst, Records Management Service.

[FR Doc. E6-9681 Filed 6-19-06; 8:45 am]

BILLING CODE 8320-01-P